DEPARTMENT OF ENERGY

Federal Energy Regulatory Commission

[Docket No. CP04-32-000]

CenterPoint Energy Gas Transmission Company; Notice of Request Under Blanket Authorization

December 18, 2003.

Take notice that on December 12, 2003, CenterPoint Energy Gas Transmission Company (CEGT), 1111 Louisiana Street, Houston, Texas 77002-5231, filed in Docket No. CP04-32-000 an application pursuant to CEGT's blanket authority granted on September 1, 1982, at Docket No. CP82-401-000. CEGT notes that its initial blanket authority was amended on February 10, 1983, in Docket Nos. CP82-384-000 and CP82-384-001. CEGT's application requests for authorization to abandon by sale and transfer certain above ground facilities in Oklahoma, all as more fully set forth in the request which is on file with the Commission and open to public inspection.

Any questions regarding this application should be directed to Lawrence O. Thomas, Director-Rates & Regulatory, CenterPoint Energy Gas Transmission Company, P.O. Box 21734, Shreveport, Louisiana 71151, at (318) 429-2804.

This filing is available for review at the Commission or may be viewed on the Commission's Web site at http://www.ferc.fed.gov using the “eLibrary” link. Enter the docket number excluding the last three digits in the docket number field to access the document. For assistance, please contact FERC Online Support at FERCOnlineSupport@ferc.gov or toll-free at (866) 208-3676, or for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 855.214) a motion to intervene or notice of intervention and pursuant to section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: February 2, 2004.

Magalie R. Salas,
Secretary.

[FR Doc. E3-00635 Filed 12-24-03; 8:45 am]

BILLING CODE 6717-01-P